ENVIRONMENTAL PROTECTION AGENCY

[ER-FRL-9034-6]

Environmental Impact Statements; Notice of Availability

Responsible Agency: Office of Federal Activities, General Information (202) 564-7146 or http://www.epa.gov/nepa.

Weekly receipt of Environmental Impact Statements

Filed 07/31/2017 Through 08/04/2017

Pursuant to 40 CFR 1506.9.

Notice

Section 309(a) of the Clean Air Act requires that EPA make public its comments on EISs issued by other Federal agencies. EPA's comment letters on EISs are available at: http://www.epa.gov/compliance/nepa/eisdata.html.

EIS No. 20170150, Final Supplement, DOS, ND, Line 67 Expansion (previously known as the Alberta Clipper Pipeline), Contact: Mary D. Hassell 202-736-7428.

EIS No. 20170151, Draft, USFS, MN, School Trust Land Exchange, Comment Period Ends: 10/10/2017, Contact: Peter Taylor 218-626-4368.

EIS No. 20170152, Draft, BR, CA, San Luis Low Point Improvement Project, Comment Period Ends: 09/25/2017, Contact: Nicole Johnson 916-978-5085.

EIS No. 20170153, Final, ARS, ID, U.S. Sheep Experimental Station Grazing and Associated Activities Project, Review Period Ends: 09/11/2017, Contact: Gary Mayo 202-260-9494.

Dated: August 8, 2017.
Dawn Roberts,
Management Analyst, NEPA Compliance Division, Office of Federal Activities.

[FR Doc. 2017-17018 Filed 8-10-17; 8:45 am]

BILLING CODE 6560-50-P